ENVIRONMENTAL PROTECTION AGENCY

40 CFR Part 52

[EPA-R07-OAR-2014-0685; FRL-9918-12-Region 7]

Revision to the Nebraska State Implementation Plan (SIP) Infrastructure Requirements for 2008 Lead (Pb) National Ambient Air Quality Standards (NAAQS)

AGENCY: Environmental Protection Agency.

ACTION: Proposed rule.

SUMMARY: The Environmental Protection Agency (EPA) proposes to approve the State Implementation Plan (SIP) revision submitted by the state of Nebraska to address the requirements of section 110(a)(1) and (2) of the Clean Air Act (CAA) for the 2008 Lead (Pb) National Ambient Air Quality Standards (NAAQS) and the inclusion into the SIP, of Nebraska's conflict of interest provisions. Section 110(a) of the CAA requires that each state adopt and submit a SIP for the implementation, maintenance, and enforcement of each NAAQS promulgated or revised by the EPA. On October 18, 2011, the Nebraska Department of Environemtal Quality (NDEQ) submitted a revision to Nebraska's SIP which describes the State's provisions for implementing, maintaining, and enforcing the standards listed above. In addition, NDEQ submitted on March 11, 2014, a request to include conflict of interest provisions into the Nebraska SIP. These revisions are necessary to properly implement, maintain and enforce the 2008 Pb NAAQS and also recognizes the state's request to include Nebraska's conflict of interest provisions into the SIP.

DATES: Comments on this proposed action must be received in writing by November 20, 2014.

ADDRESSES: Submit your comments, identified by Docket ID No. EPA-R07-OAR-2014-0685, by mail to Greg Crable, Environmental Protection Agency, Air Planning and Development Branch, 11201 Renner Boulevard, Lenexa, Kansas 66219. Comments may also be submitted electronically or through hand delivery/courier by following the detailed instructions in the ADDRESSES section of the direct final rule located in the rules section of this Federal Register.

FOR FURTHER INFORMATION CONTACT: Greg Crable, Environmental Protection Agency, Air Planning and Development Branch, 11201 Renner Boulevard, Lenexa, Kansas 66219 at 913-551-7391, or by email at crable.gregory@epa.gov.

SUPPLEMENTARY INFORMATION: In the final rules section of the Federal Register, EPA is approving the state's SIP revision as a direct final rule without prior proposal because the Agency views this as a noncontroversial revision amendment and anticipates no relevant adverse comments to this action. A detailed rationale for the approval is set forth in the direct final rule. If no relevant adverse comments are received in response to this action, no further activity is contemplated in relation to this action. If EPA receives relevant adverse comments, the direct final rule will be withdrawn and all public comments received will be addressed in a subsequent final rule based on this proposed action. EPA will not institute a second comment period on this action. Any parties interested in commenting on this action should do so at this time. Please note that if EPA receives adverse comment on part of this rule and if that part can be severed from the remainder of the rule, EPA may adopt as final those parts of the rule that are not the subject of an adverse comment. For additional information, see the direct final rule which is located in the rules section of this Federal Register.

List of Subjects in 40 CFR Part 52

Environmental protection, Air pollution control, Incorporation by reference, Intergovernmental relations, Lead, Reporting and recordkeeping requirements.

Dated: September 30, 2014.
Rebecca Weber,
Acting Regional Administrator, Region 7.

[FR Doc. 2014-24895 Filed 10-20-14; 8:45 am]

BILLING CODE 6560-50-P